DEPARTMENT OF LABOR

Occupational Safety and Health Administration

[Docket No. OSHA-2006-0030]

National Technical Systems, Inc.: Expiration of Recognition as a Nationally Recognized Testing Laboratory

AGENCY: Occupational Safety and Health Administration (OSHA), Labor.

ACTION: Notice.

SUMMARY: This notice announces the expiration of recognition of National Technical Systems, Inc., as a Nationally Recognized Testing Laboratory.

DATES: The effective date of this notice is June 21, 2012.

FOR FURTHER INFORMATION CONTACT: Bernard Pasquet, Office of Technical Programs and Coordination Activities, NRTL Program, Occupational Safety and Health Administration, U.S. Department of Labor, 200 Constitution Avenue NW., Room N-3655, Washington, DC 20210, or phone (202) 693-2110.

SUPPLEMENTARY INFORMATION:

I. Notice of Expiration of Recognition

The Occupational Safety and Health Administration (OSHA) hereby provides public notice that the recognition of National Testing Services, Inc., (NTS) as a Nationally Recognized Testing Laboratory (NRTL) will expire on June 21, 2012. OSHA's current scope of recognition for NTS is available at the Web page: https://www.osha.gov/dts/otpca/nrtl/nts.html.

On December 10, 1998, OSHA published in the Federal Register a notice recognizing NTS as an NRTL, with recognition effective on the date of the notice (63 FR 68306). On June 21, 2007, OSHA renewed the recognition of NTS as an NRTL (see 72 FR 34320), which extended the recognition for a period of five years, to June 21, 2012 (see paragraph I.c.2 of Appendix A to 29 CFR 1910.7). The current address of the only NTS facility recognized by OSHA as an NRTL site is: National Technical Systems, Inc., 1146 Massachusetts Avenue, Boxborough, Massachusetts 01719.

II. General Background on the Expiration of Recognition

Appendix A to 29 CFR 1910.7 stipulates that a recognized NRTL may renew its recognition by filing a renewal request not less than nine months, or no more than one year, before the expiration date of its current recognition. On August 5, 2011, OSHA sent NTS a reminder indicating that OSHA's recognition of NTS as an NRTL would expire on June 21, 2012. However, NTS did not submit a renewal request within the requisite time period. Consequently, the recognition of NTS as an NRTL expires on June 21, 2012. As of that date, NTS is no longer an NRTL, and OSHA no longer accepts the certifications of products by NTS for purposes of OSHA's NRTL-approval requirements. OSHA is publishing this Federal Register notice to make the public aware of the expiration.

III. Acceptability of Product Certifications by Former NRTLs

When an organization is no longer part of the NRTL Program, OSHA cannot accept the organization's NRTL-related product certifications if these certifications occur on or after the date OSHA terminated the organization's NRTL recognition. The following examples describe actions that occur on or after the date that OSHA terminated such an organization's NRTL recognition that would, for purposes of the NRTL Program, constitute invalid product certifications by that organization:

1. Authorizing manufacturers to use its mark by imprinting the terminated NRTL's mark on labels or on products;

2. Authorizing manufactures to use or apply labels containing the terminated NRTL's mark;

3. Issuing labels containing the terminated NRTL's mark to manufacturers; or

4. Manufacturers applying the terminated NRTL's mark or labels containing this mark to products.

For products to remain NRTL certified after the date OSHA terminated the organization's NRTL recognition, the manufacturer must find another NRTL organization that will assume responsibility for certifying the affected product(s); these types of product(s) must fall within that NRTL organization's scope of recognition. If another NRTL organization does not assume responsibility for certifying the product(s), then the terminated NRTL's product certifications are valid only under the following, limited, conditions:

1. The product(s) must be identical to the product model(s) that the terminated NRTL authorized for certification when it was part of the NRTL Program; and

2. The manufacturer must affix the terminated NRTL's mark to the product(s) only prior to the effective date of termination (not on or after that date), or, if the NRTL withdrew its certification of the product(s) at an earlier date, then the manufacturer must manufacture the product(s) and affix the NRTL's mark to the product(s) no later than this earlier date.

IV. Authority and Signature

David Michaels, Ph.D., MPH, Assistant Secretary of Labor for Occupational Safety and Health, 200 Constitution Avenue NW., Washington, DC 20210, authorized the preparation of this notice. Accordingly, the Agency is issuing this notice pursuant to Section 8(g)(2) of the Occupational Safety and Health Act of 1970 (29 U.S.C. 657(g)(2)), Secretary of Labor's Order No. 1-2012 (77 FR 3912), and 29 CFR 1910.7.

Signed at Washington, DC, on May 21, 2012.
David Michaels,
Assistant Secretary of Labor for Occupational Safety and Health.

[FR Doc. 2012-12632 Filed 5-23-12; 8:45 am]

BILLING CODE 4510-26-P